SECURITIES AND EXCHANGE COMMISSION

[File No. 500-1]

In the Matter of Commanche Properties, Inc.; Order of Suspension of Trading

January 31, 2005.

It appears to the Securities and Exchange Commission that the public interest and the protection of investors require a suspension of trading in the securities of Commanche Properties, Inc. (“Commanche”). The Commission is concerned that Commanche may have unjustifiably relied on Rule 504 of Regulation D of the Securities Act of 1933 in conducting an unlawful distribution of its securities which failed to comply with the resale restrictions of Regulation D. Commanche, a company that has made no public filings with the Commission, is quoted on the Pink Sheets under the ticker symbol CMCH, and has recently been the subject of spam e-mail touting the company's shares.

The Commission is of the opinion that the public interest and the protection of investors require a suspension of trading in the securities of the above listed company.

Therefore, it is ordered, pursuant to Section 12(k) of the Securities Exchange Act of 1934, that trading in the above listed company is suspended for the period from 9:30 a.m. e.s.t. January 31, 2005 through 11:59 p.m. e.s.t., on February 11, 2005.

By the Commission.
Margaret H. McFarland,
Deputy Secretary.

[FR Doc. 05-2055 Filed 1-31-05; 11:48 am]

BILLING CODE 8010-01-P